DEPARTMENT OF COMMERCE

National Oceanic and Atmospheric Administration

[I.D. 020305B]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Snapper Grouper Committee, Advisory Panel Selection Committee, Joint Executive and Finance Committees, Controlled Access Committee, Highly Migratory Species Committee, and a meeting of the full Council. In addition, there will be a public scoping meeting addressing the Fishery Ecosystem Plan and Comprehensive Amendment.

DATES: The meeting will be held in February and March 2005. See SUPPLEMENTARY INFORMATION for specific dates and times.

ADDRESSES: The meeting will be held at the Hilton Savannah DeSoto Hotel, 15 East Liberty Street, Savannah, GA 31401 Telephone: (1-800) 426-8483 or 912/ 232-9000, FAX 912/ 232-6018.

Copies of documents are available from Kim Iverson, Public Information Officer, South Atlantic Fishery Management Council, One Southpark Circle, Suite 306, Charleston, SC 29407-4699.

FOR FURTHER INFORMATION CONTACT: Kim Iverson, Public Information Officer; telephone: 843/571-4366 or toll free at 866/SAFMC-10; fax: 843/769-4520; email: kim.iverson@safmc.net.

SUPPLEMENTARY INFORMATION:

Meeting Dates

1. Snapper Grouper Committee Meeting: February 28, 2005, 1:30 p.m. - 5 p.m. and March 1, 2005, 8:30 a.m. - 5 p.m.

The Snapper Grouper Committee will review draft Amendment 13B regarding mandates under the Sustainable Fisheries Act to address overfishing and choose management measure alternatives. In addition, the Committee will review and develop recommendations for the “Oculina Closed Area Evaluation Plan”, receive an update on the Large Whale Take Reduction Team Draft Environmental Impact Statement (DEIS) and Proposed Rule, and receive a presentation by NOAA Fisheries' Southeast Regional Office on linking permits and landings databases.

Note: A public scoping meeting on the Fishery Ecosystem Plan and Comprehensive Amendment will be held February 28, 2005 beginning at 6 p.m.

2. Advisory Panel Selection Committee Meeting: March 2, 2005, 8:30 a.m. - 10 a.m. (CLOSED SESSION)

The Committee will review advisory panel applications and develop recommendations for Council consideration.

3. Joint Executive Committee and Finance Committee Meeting: March 2, 2005, 10 a.m. until 12 noon

The Committees will receive an update on additional Calendar Year (CY) 2005 funds and review the CY 2005 activities schedule. The Committees will also review activities and budgets for Ecosystem-based management, the Southeast Data, Assessment, and Review (SEDAR) stock assessment process, and Coral activities, and receive a report on the status of the CY 2005-2009 grant budget.

4. Controlled Access Committee Meeting: March 2, 2005, 1:30 p.m. - 5 p.m.

The Controlled Access Committee will receive an introduction to rights-based systems, discuss Individual Fishing Quotas (IFQs), and receive a presentation on IFQs in Alaska.

5. Highly Migratory Species Committee Meeting: March 3, 2005, 8:30 a.m. 12 noon

The Highly Migratory Species Committee will receive a presentation regarding Amendment 2 to the Atlantic Tuna, Swordfish, Shark, and Billfish Fishery Management Plan (FMP) from NOAA Fisheries. The Committee will discuss bluefin tuna and shark management issues following the presentation.

6. Council Session: March 3, 2005, 1:30 p.m. - 5 p.m. and March 4, 2005, 8:30 a.m. - 12 noon

From 1:30 p.m. - 1:45 p.m., the Council will call the meeting order, make introductions and roll call and adopt the meeting agenda.

From 1:45 p.m. 2:45 p.m., the Council will hear a report from the Snapper Grouper Committee and take action as appropriate.

From 2:45 p.m. - 3:15 p.m., the Council will receive a report from the Joint Executive/Finance Committee and approve the CY 2005 Activities Schedule and Budget.

From 3:15 p.m. - 3:45 p.m., the Council will hear a report from the Advisory Panel Selection Committee and approve appointment of advisory panel members.

From 3:45 p.m. - 4:15 p.m., the Council will hear a report from the Controlled Access Committee.

From 4:15 p.m. - 4:45 p.m., the Council will hear a report from the Highly Migratory Species Committee and take action as appropriate.

From 4:45 p.m. - 5 p.m., the Council will review the status of the Red Drum FMP.

Council Session: March 4, 2005, 8:30 a.m. - 12 noon.

From 8:30 a.m. - 9 a.m., the Council will receive a briefing on litigation and other legal issues affecting the Council (CLOSED SESSION)

From 9 a.m. - 9:30 a.m., the Council will discuss Exempted Fishery Permit requests and take action as appropriate.

From 9:30 a.m. - 10 a.m., the Council will review the Atlantic States Marine Fisheries Commission's Law Enforcement Policy and take action as appropriate.

From 10 a.m. - 11 a.m., the Council will hear status reports from NOAA Fisheries' Southeast Regional Office and the Southeast Fishery Science Center.

From 11 a.m. - 12 noon, the Council will receive agency and liaison reports, discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by February 25, 2005.

Dated: February 4, 2005.
Alan D. Risenhoover,
Acting Director, Office of Sustainable Fisheries, National Marine Fisheries Service.

[FR Doc. E5-530 Filed 2-8-05; 8:45 am]

BILLING CODE 3510-DS-S